DEPARTMENT OF COMMERCE

Foreign-Trade Zones Board

[B-24-2026]

Foreign-Trade Zone (FTZ) 21, Notification of Proposed Production Activity; Zapp Precision Wire, Inc.; (Precision Wire and Metal Products); Summerville, South Carolina

The South Carolina State Ports Authority, grantee of FTZ 21, submitted a notification of proposed production activity to the FTZ Board (the Board) on behalf of Zapp Precision Wire, Inc. (Zapp) for Zapp's facility in Summerville, South Carolina within FTZ 21. The notification conforming to the requirements of the Board's regulations (15 CFR 400.22) was received on February 26, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: stainless steel bars converted from another form; stainless steel wire converted from another form; stainless steel rods converted from another form; shaped cold-worked stainless steel bars; shaped cold-worked stainless steel rods; wound stainless steel shaped wire; nickel alloy wire; nickel alloy bars; and shaped wire of nickel alloy (duty-free).

The proposed foreign-status materials/components include: stainless steel bar with high-nickel alloy; stainless steel flats with high-nickel alloy; stainless steel bar; stainless steel rod; stainless steel shapes; hot-worked stainless steel bars; hot-worked stainless steel rods; cold-worked stainless steel bars; cold-worked stainless steel rods; further-worked stainless steel bars; further-worked stainless steel rods; further-worked stainless steel shapes; stainless steel wire; and nickel alloy wire (duty rate ranges from duty-free to 3.0%).

The request indicates that certain materials/components are subject to duties under section 122 of the Trade Act of 1974 (Section 122), section 232 of the Trade Expansion Act of 1962 (section 232), or section 301 of the Trade Act of 1974 (section 301), depending on the country of origin. The applicable section 122, section 232, and section 301 decisions require subject merchandise to be admitted to FTZs in privileged foreign status (19 CFR 146.41).

Public comment is invited from interested parties. Submissions shall be addressed to the Board's Executive Secretary and sent to: ftz@trade.gov. The closing period for their receipt is April 13, 2026.

A copy of the notification will be available for public inspection in the “Online FTZ Information System” section of the Board's website.

For further information, contact John Frye at John.Frye@trade.gov.

Dated: February 26, 2026.
Elizabeth Whiteman,
Executive Secretary.

[FR Doc. 2026-04186 Filed 3-2-26; 8:45 am]

BILLING CODE 3510-DS-P